GENERAL SERVICES ADMINISTRATION

[OMB Control No. 3090-0086]

General Services Administration Acquisition Regulation; Submission for OMB Review; GSA Form 1364, Proposal To Lease Space

AGENCY: Acquisition Policy Division, GSA.

ACTION: Notice of request for comments regarding a reinstatement of an information collection requirement for an existing OMB clearance.

SUMMARY: Under the provisions of the Paperwork Reduction Act of 1995 (44 U.S.C. Chapter 35), the General Services Administration will be submitting to the Office of Management and Budget (OMB) a request to review and approve a revision to the reinstatement of a previously approved information collection requirement regarding GSA Forms 1364/1364A, Proposal to Lease Space (Not Required by Regulation). This form is used to obtain information about property being offered for lease to house Federal agencies. In the past, GSA also used a 1364A which requested information regarding how tenant improvements were financed by a prospective lessor. The new version of form combines the former 1364 and 1364A, and it also collects other financial aspects contained in an offer for analysis and negotiation into lease contracts (e.g. real estate taxes, adjustments for vacant space, offerors' design and construction fees). A request for public comments was published in the Federal Register at 74 FR 52811, on October 14, 2009. No comments were received.

Public comments are particularly invited on: Whether this collection of information is necessary and whether it will have practical utility; whether our estimate of the public burden of this collection of information is accurate and based on valid assumptions and methodology; and ways to enhance the quality, utility, and clarity of the information to be collected.

DATES: Submit comments on or before: February 12, 2010.

FOR FURTHER INFORMATION CONTACT: Beverly Cromer, Procurement Analyst, Acquisition Policy Division, at telephone (202) 501-1448 or via e-mail to Beverly.cromer@gsa.gov.

ADDRESSES: Submit comments regarding this burden estimate or any other aspect of this collection of information, including suggestions for reducing this burden to the Regulatory Secretariat (MVPR), General Services Administration, 1800 F Street, NW., Room 4041, Washington, DC 20405. Please cite OMB Control No. 3090-0086, GSA Form 1364/1364A, Proposal to Lease Space (Not Required by Regulation), in all correspondence.

SUPPLEMENTARY INFORMATION:

A. Purpose

The General Services Administration (GSA) has various mission responsibilities related to the acquisition and provision of real property management, and disposal of real and personal property. These mission responsibilities generate requirements that are realized through the solicitation and award of leasing contracts. Individual solicitations and resulting contracts may impose unique information collection/reporting requirements on contractors, not required by regulation, but necessary to evaluate particular program accomplishments and measure success in meeting program objectives.

B. Annual Reporting Burden

Respondents: 5733.

Responses Per Respondent: 1.

Hours Per Response: 5.0205.

Total Burden Hours: 28,783.

Obtaining Copies of Proposals: Requesters may obtain a copy of the information collection documents from the General Services Administration, Regulatory Secretariat (MVPR), 1800 F Street, NW., Room 4041, Washington, DC 20405, telephone (202) 501-4755. Please cite OMB Control No. 3090-0086, GSA Form 1364, Proposal to Lease Space, in all correspondence.

Dated: January 7, 2010.
Al Matera,
Director, Acquisition Policy Division.

[FR Doc. 2010-417 Filed 1-12-10; 8:45 am]

BILLING CODE 6820-61-P